DEPARTMENT OF HOMELAND SECURITY

[Docket No. DHS-2012-0058]

Chemical Security Assessment Tool (CSAT)

AGENCY: National Protection and Programs Directorate, DHS.

ACTION: 60-Day notice and request for comments; Revision of Information Collection Request: 1670-0007.

SUMMARY: The Department of Homeland Security (DHS), National Protection and Programs Directorate (NPPD), Office of Infrastructure Protection (IP), Infrastructure Security Compliance Division (ISCD), will submit the following Information Collection Request to the Office of Management and Budget (OMB) for review and clearance in accordance with the Paperwork Reduction Act of 1995 (Pub.L. 104-13, 44 U.S.C. Chapter 35).

DATES: Comments are encouraged and will be accepted until February 15, 2013 This process is conducted in accordance with 5 CFR 1320.8.

ADDRESSES: Written comments and questions about this Information Collection Request should be forwarded to DHS/NPPD/IP/ISCD Chemical Facility Anti-Terrorism Standards Program Manager, 245 Murray Lane SW., Mail Stop 0610, Arlington, VA 20528-0610. Written comments should reach the contact person listed no later than February 15, 2013. Comments must be identified by “DHS-2012-0057”and may be submitted by one of the following methods:

• Federal eRulemaking Portal: http://www.regulations.gov.

Instructions: All submissions received must include the words “Department of Homeland Security” and the docket number for this action. Comments received will be posted without alteration at http://www.regulations.gov, including any personal information provided.

Special Instructions: Comments that include trade secrets, confidential commercial or financial information, Chemical-terrorism Vulnerability Information (CVI), Sensitive Security Information (SSI), or Protected Critical Infrastructure Information (PCII) should not be submitted to the public regulatory docket. Please submit such comments separately from other comments in response to this notice. Comments containing trade secrets, confidential commercial or financial information, CVI, SSI, or PCII should be appropriately marked and submitted by mail to the DHS/NPPD/IP/ISCD Chemical Facility Anti-Terrorism Standards Program Manager at the Department of Homeland Security, 245 Murray Lane SW., Mail Stop 0610, Arlington, VA 20528-0610. Comments must be identified by docket number DHS-2012-0058.

SUPPLEMENTARY INFORMATION: Section 550 of the Homeland Security Appropriations Act of 2007, Public Law 109-295 (2006), provides DHS with the authority to regulate the security of high-risk chemical facilities. On April 9, 2007, the Department issued an Interim Final Rule (IFR), implementing this statutory mandate at 72 FR 17688. Section 550 of the Homeland Security Appropriations Act of 2007 requires a risk-based approach to security.

The Chemical Facility Anti-Terrorism Standards (CFATS) are the Department's regulations under Section 550 governing security at high-risk chemical facilities. See 6 CFR part 27. CFATS represents a national-level effort to minimize terrorism risk to such facilities. Its design and implementation balance maintaining economic vitality with securing facilities and their surrounding communities. The regulations were designed, in collaboration with the private sector and other stakeholders, to take advantage of protective measures already in place and to allow facilities to employ a wide range of tailored measures to satisfy the regulations' Risk-Based Performance Standards (RBPS).

The Department collects the core regulatory data through the portions of the Chemical Security Assessment Tool (CSAT) covered under this collection. For more information about CFATS and CSAT, you may access www.dhs.gov/chemicalsecurity. The current information collection for these portions of CSAT will expire on March 31, 2013.

The Department's Methodology in Estimating the Burden for the Top-Screen

Number of Respondents

The current information collection estimated that 4,167 respondents would submit a Top-Screen annually. That estimate, which is taken from the 2007 CFATS Regulatory Assessment,¹ was derived by averaging the estimated number of respondents that would complete a Top-Screen in Calendar Year (CY) 2008-2010. In the 2007 CFATS Regulatory Assessment, the Department estimated that during CY 2013-2015, 2,500 respondents would submit Top-Screens annually. In actuality, between January 2009 and December 2011, 6,781 Top-Screens were submitted by 6,041 facilities (i.e., respondents). This resulted in the Department receiving, on average, 2,260 respondent submissions annually during CY 2009-2011. This information is displayed in Table 1 below:

¹ See Section 3 and Table 6 of the 2007 CFATS Regulatory Assessment, http://www.regulations.gov/#!documentDetail;D=DHS-2006-0073-0116.

Table 1—Top-Screen Submission Averages
| Year 1 | Year 2 | Year 3 | Total | Average annual
Estimated number of Top-Screen respondents in the information collection that expires on 03/31/13 | 7,500 | 2,500 | 2,500 | 12,500 | 4,167
Total Number of Actual Top-Screens | 2,704 | 2,445 | 1,632 | 6,781 | 2,260

As the historical annual average of 2,260 submissions is close to the average annual number of respondents estimated in the 2007 CFATS Regulatory Evaluation for CY 2013-2015 (i.e., 2,500), the Department will use the 2007 CFATS Regulatory Evaluation to estimate the number of respondents for the purposes of this notice.

Estimated Time per Respondent

In the current information collection, the estimated time per respondent to prepare and submit a Top-Screen is 30.3 hours. This estimate assumed that the majority of the burden associated with the Top-Screen was outside of DHS's ability to quantitatively measure. However, by using the data collected between January 2009 and December 2011, the Department was able to measure the duration a user, on behalf of a facility, was logged into the Top-Screen application. The Department determined that 98 percent of users who submitted Top-Screens were logged into the Top-Screen application for no more than 2.25 hours. While facilities likely spent additional time preparing for the completion of the Top-Screen when not logged into the Top-Screen application, based upon the Department's experience and routine interactions with regulated chemical facilities, the Department does not believe that a facility spent 15 hours prepping to submit a Top-Screen for every hour spent actually using the Top-Screen application. Thus, the Department no longer believes that 30.3 hours of effort is a reasonable burden estimate.

Rather, based upon the Department's interactions with regulated chemical facilities, the Department believes that for every hour a facility is logged into CSAT, it spends an average of two hours in preparation. Therefore, for the purposes of this notice, the Department's estimated time per respondent to submit a Top-Screen is 6.75 hours. To account for the anticipated resubmission by facilities, the Department further estimates that 50 percent of the respondents will submit two Top-Screens.

The Department also collects supporting documentation from approximately half of the respondents. Based upon the Department's day-to-day informal discussions with regulated chemical facilities, the Department believes that a reasonable burden for the gathering and provision of supporting documentation is 0.25 hours.

Annual Burden Hours

The annual burden hours for the Top-Screen is [6.75 hours × 2,500 respondents × 1.5 responses per respondent], which equals 25,312.50 hours. The annual burden hours to submit supporting documentation is 312 hours [0.25 hours × 1,250 respondents × one response per respondent].

Therefore, the Department estimates that the total annual burden hours for the Top-Screen is 25,624.5 hours [25,312.5 hours + 312 hours]. The rounded estimate is 25,600 hours.

Total Burden Cost (Capital/Startup)

The Department provides access to CSAT free of charge, and the Department assumes that each respondent already has access to the Internet for basic business needs. Therefore, for the purposes of this notice, the Department estimates that there are no capital/startup costs.

Total Recordkeeping Burden

A chemical facility that has submitted a Top-Screen may or may not be determined by the Department to present a high level of security risk. Only covered facilities that present a high level of security risk are required to keep records mandated by CFATS.

For chemical facilities that ultimately are determined not to present a high level of security risk, the Department estimates any CFATS recordkeeping burden to be de minimis.

For chemical facilities that are determined to present a high level of security risk, the Top-Screen recordkeeping burden is accounted for within the recordkeeping burden estimate for the “Site Security Plan (SSP) and Alternative Security Program (ASP) submitted in lieu of the Site Security Plan,” discussed later in this notice. The recordkeeping burden estimate for the “Site Security Plan (SSP) and Alternative Security Program (ASP) submitted in lieu of the Site Security Plan” accounts for all records high-risk chemical facilities are required to maintain under CFATS because the Department assumes that high-risk chemical facilities maintain their Top-Screen records and any other required records in the same manners, formats, and locations as they maintain their SSP/ASP records.

Total Annual Burden Cost (Operating/Maintaining)

The 2007 CFATS Regulatory Evaluation assumes that Site Security Officers are responsible for submitting Top-Screens. For the purpose of this notice, the Department maintains this assumption.

Therefore, to estimate the total annual burden, the Department multiplied the annual burden of 25,624.5 hours by the wage rate of Site Security Officers and adjusted for the actual and estimated Employment Cost Index (ECI) published by the Bureau of Labor Statistics (BLS). For the purpose of this notice, the Department adjusted wage rate of Site Security Officers from $80.00 per hour to $86.00 per hour. Therefore, the total annual burden cost for the Top-Screen is $2,203,707 [25,624.5 total annual burden hours × $86 per hour]. The rounded estimate is $2,203,700.

The Department's Methodology in Estimating the Burden for the Security Vulnerability Assessment (SVA) & Alternative Security Program (ASP) Submitted in Lieu of the Security Vulnerability Assessment

Number of Respondents

The current information collection estimated that 825 respondents would complete an SVA/ASP annually in CY 2008-2010. The number of respondents was derived by a two-step process. The first step estimated the expected number of SVAs/ASPs by multiplying the estimated number of Top-Screens in each CY by the percentage of Top-Screens that resulted in a determination by the Department that an SVA or ASP in lieu of an SVA must be submitted by a facility. When the current information collection was approved in March of 2010, that rate was 19.8 percent. The estimated number of SVAs or ASPs in lieu of SVAs must be submitted by facilities was then averaged. See the table below for estimated totals.

Table 2—SVA/ASP Submission Estimates Based on Top-Screen Submissions
| Year 1 | Year 2 | Year 3 | Total | Average annual
Estimated number of Top-Screen Respondents in information collection that expires on 03/31/13 | 7,500 | 2,500 | 2,500 | 12,500 | 4,167
Estimated number of SVA/ASP Respondents in information collection that expires on 03/31/13 | 1,485 | 495 | 495 | 2,475 | 825

In actuality, 2,834 respondents submitted ASV/ASPs to the Department for the first time between January 2009 and December 2011.

Table 3—SVA/ASP Submission Totals, Including New SVA/ASP Submissions
| Year 1 | Year 2 | Year 3 | Total
Estimated number of SVA/ASP Respondents for information collection that expires on 03/31/13 | 1,485 | 495 | 495 | 2,475
Actual Number of New SVAs Submitted | 2,287 | 315 | 232 | 2,834

Based upon a comparison of the actual results and the Department's estimates, the Department is satisfied that the methodology to estimate the number of respondents is reasonable. Therefore, for the purpose of this notice, the Department duplicated that analysis.

Historical data from the Department in CY 2009-2011 revealed that the percentage of Top-Screens that subsequently resulted in a determination that an SVA or ASP in lieu of an SVA must be submitted by a facility was 29.6 percent. The estimated number of SVAs or ASPs in lieu of SVAs that must be submitted by facilities was determined by CY and then averaged. Therefore, for the purposes of this notice, the number of SVA/ASP respondents is 740 [2500 Top-Screen Respondents × 0.296. See table below.

Table 4—Top-Screen and SVA/ASP Respondent Estimates
| Year 1 | Year 2 | Year 3 | Total | Average annual
Estimated number of Top-Screen Respondents in this notice | 2,500 | 2,500 | 2,500 | 7,500 | 2,500
Current Estimated number of SVA/ASP Respondents in this notice | 740 | 740 | 740 | 2,220 | 740

Estimated Time per Respondent

The current information collection estimated the time per respondent for preparing and submitting an SVA/ASP to be 250 hours. Previously, when making that estimate, the Department assumed that the majority of the burden associated with the SVAs/ASPs is outside the ability of the Department to quantitatively measure. However, in CY 2009-2011, the Department was able to measure the duration a user, on behalf of a facility, was logged into the SVA/ASP application. Based upon actual historical data, the Department determined that 98 percent of users who submitted SVAs were logged into the SVA/ASP application for no more than 13 hours.

While facilities likely spent additional time preparing to complete the SVA/ASP while not logged into the SVA/ASP application, based upon the Department's experience and routine interactions with regulated chemical facilities, the Department does not believe that a facility spent 20 hours prepping to submit an SVA/ASP for every hour spent actually using the SVA/ASP application. Thus, the Department no longer believes that 250 hours of effort is a reasonable burden estimate.

Rather, based upon the Department's interactions with regulated chemical facilities, we believe that for every hour a facility is logged into CSAT, it spends an average of two hours in preparation. Therefore, for the purpose of this notice, the Department's estimated time per respondent to submit an SVA/ASP is 39 hours. The rounded estimate is 40 hours.

To account for the anticipated resubmission by facilities, DHS estimates that 50 percent of the respondents will submit an additional SVA/ASP.

The Department also collects supporting documentation from approximately half of the respondents. Based upon the Department's day-to-day informal discussions with regulated chemical facilities, the Department believes that a reasonable burden for gathering and provision of supporting documentation is 0.25 hours per facility.

Annual Burden Hours

The annual burden hours for an SVA/ASP is 43,290 hours [740 respondents × 39 hours × 1.5 response per respondent].

The annual burden estimate to obtain supporting documentation is 92.5 hours [0.25 hours × 370 respondents × 1 response per respondent].

Therefore, the Department estimates that the total annual burden in hours for the SVA/ASP is 43,382.5 hours [43,290 hours + 92.5 hours]. The rounded estimate is 43,400 hours.

Total Burden Cost (Capital/Startup)

The Department provides access to CSAT free of charge, and the Department assumes that each respondent already has access to the Internet for basic business needs. Therefore, for the purposes of this notice, the Department estimates that there are no capital/startup costs.

Total Recordkeeping Burden

A chemical facility that has submitted an SVA/ASP may or may not be determined by the Department to present a high level of security risk. Only covered facilities that present a high level of security risk have a recordkeeping requirement.

For chemical facilities that ultimately are determined not to present a high level of security risk, the Department estimates any CFATS recordkeeping burden to be de minimis.

For chemical facilities that are determined to present a high level of security risk, the SVA recordkeeping burden is accounted for within the recordkeeping burden estimate for the “Site Security Plan (SSP) and Alternative Security Program (ASP) submitted in lieu of the Site Security Plan,” discussed later in this notice. The recordkeeping burden estimate for the “Site Security Plan (SSP) and Alternative Security Program (ASP) submitted in lieu of the Site Security Plan” accounts for all records high-risk chemical facilities are required to maintain under CFATS because the Department assumes that high-risk chemical facilities maintain their Top-Screen records and any other required records in the same manners, formats, and locations as they maintain their SSP/ASP records.

Total Annual Burden Cost (Operating/Maintaining)

The 2007 CFATS Regulatory Evaluation assumes that Site Security Officers will be responsible for submitting Top-Screens. For the purpose of this notice, the Department maintains this assumption.

The total annual burden cost for the SVA/ASP is $3,730,852 [43,382 total annual burden hours × $86 (average hourly wage rate for Site Security Officers)]. The rounded estimate is $3,730,900.

The Department's Methodology in Estimating the Burden for Site Security Plan (SSP) and Alternative Security Program (ASP) Submitted in Lieu of the Site Security Plan

Number of Respondents

The current information collection estimated that 825 respondents would complete an SSP/ASP annually in CY 2008-2010. At the time the current information collection was approved in March of 2010, the Department did not have adequate actual data from which to estimate the number of respondents. Thus, for simplicity, the Department opted to use the same estimated number of respondents for the SVA/ASP as the estimated number used for the SSP/ASP.

Between January 2009 and December 2011, 4,199 respondents submitted an SSP/ASP.

Table 5—SSP/ASP Submission Estimates, Including New SSP/ASP Submissions
| Year 1 | Year 2 | Year 3 | Total
Estimated number of SSP/ASP Respondents in the information collection that expires on 03/31/13 | 1,485 | 495 | 495 | 2,475
Actual Number of New SSPs/ASPs Submitted | 907 | 3,056 | 236 | 4,199

In CY 2009-2011, 2,321 facilities were required to complete an SSP/ASP from the 3,528 facilities that submitted an SVA/ASP. Therefore, the percentage of SVA/ASPs that resulted in a determination by the Department that an SSP or ASP in lieu of an SSP must be submitted by a facility was 65.7 percent. Therefore, for the purposes of this notice, the number of SSP/ASP respondents is 486 [740 SVA/ASP respondents × 0.657]. See table below.

Table 6—SVA/ASP Respondent and SSP/ASP Respondent Estimates
| Year 1 | Year 2 | Year 3 | Total | Average annual
Estimated number of SVA/ASP Respondents in this notice | 740 | 740 | 740 | 2,220 | 740
Estimated number of SSP/ASP Respondents in this notice | 486 | 486 | 486 | 1,458 | 486

Estimated Time per Respondent

The current information collection estimated the estimated time per respondent for preparing and submitting a SSP/ASP to be 200 hours. Previously, when making that estimate, the Department assumed that the majority of the burden associated with the SSPs/ASPs is outside of CSAT's ability to quantitatively measure. However, in CY 2009-2011, the Department was able to measure the duration a user was logged into the SVA/ASP application on behalf of a facility. The Department determined that 98 percent of users who submitted the evaluated SSPs were logged into the system for no more than 45 hours.

Facilities likely spent additional time preparing to complete the SSP/ASP while not logged into the SSP/ASP application, based upon the Department's experience and routine interactions with regulated chemical facilities, the Department believes that 200 hours of effort is a reasonable burden estimate (i.e., that the facility spends 4.5 hours outside of CSAT for every hour it spends logged into CSAT). Therefore, for the purpose of this notice, the Department will maintain the estimated time per respondent estimate of 200 hours. To account for the anticipated resubmission by facilities, DHS estimates that 50 percent of the respondents will submit an additional SSP/ASP.

The Department also collects supporting documentation from approximately half of the respondents. Based upon the Department's day-to-day informal discussions with regulated chemical facilities, the Department believes that a reasonable burden for the gathering and provision of supporting documentation is 0.25 hours per facility.

Annual Burden Hours

The annual burden hours for SSP/ASP submission is 145,800 hours [200 hours × 486 SSP/ASP respondents × 1.5 response per respondent].

The annual burden hours for obtaining supporting documentation is 60.75 hours [0.25 hours × (0.5 × 486 SSP/ASP respondents) × (one response per respondent)].

Therefore, the Department estimates that the total annual burden hours for SSP/ASP submission is 145,860.75 hours [145,800 hours + 60.75 hours]. The rounded estimate is 145,900 hours.

Total Burden Cost (Capital/Startup)

The Department provides access to CSAT free of charge, and the Department assumes each respondent already has access to the Internet for basic business needs. Therefore, for the purposes of this notice, the Department estimates that there are no capital/startup costs.

Total Recordkeeping Burden

The recordkeeping burden estimate for the “Site Security Plan (SSP) and Alternative Security Program (ASP) submitted in lieu of the Site Security Plan” accounts for the recordkeeping burden high-risk chemical facilities are required to maintain under CFATS, including SSP and ASP records because the Department assumes that high-risk chemical facilities maintain their records and any other required records in the same manners, formats, and locations as they maintain their SSP/ASP records. Therefore, the Department believes it is reasonable to estimate the recordkeeping burden for all CFATS covered facilities under the recordkeeping burden for the “Site Security Plan (SSP) and Alternative Security Program (ASP) submitted in lieu of the Site Security Plan.”

Records maintained under CFATS, including SSP/ASP records and other records listed at 6 CFR 27.255, may be kept in electronic or paper formats as long as they are reasonably protected. For the purpose of this notice, the Department assumes that all covered facilities will purchase a locked filing cabinet to maintain records at a cost of $350 each. In addition, covered facilities that use paper records will also incur the cost of additional paper and printer ink/toner. The Department assumes an additional box of paper ($50) and additional printer ink/toner supplies ($200). Thus, the physical cost related to record keeping for each SSP/ASP respondent is $600 (i.e., $350 for the filing cabinet plus $250 for paper and toner) for the first year and $250 per year for the second and third year. Thus, the annual average cost for physical cost related to paper-based recordkeeping is $336 per SSP/ASP.

Table 7—SSP/ASP Paper-Based Recordkeeping Costs
| Locked filing cabinet cost | Paper and ink/toner cost | Year 1 cost | Year 2 cost | Year 3 cost | Average annual cost
SSP/ASP | $350 | $250 | $600 | $250 | $250 | $336

The Department assumes that clerical staff will spend 48 hours per year (four hours per month) maintaining records, such as filing, binding, etc. The 2007 CFATS Regulatory Evaluation estimated the wage rate of clerical staff by leveraging the ECI published by the BLS. Specifically, for the purpose of this notice the Department adjusted the wage rate of clerical staff from $40 per hour to $43 per hour. Thus, the Department estimates the labor related to paper-based recordkeeping burden is $2,064 per SSP/ASP [48 hours × $43].

Alternatively, although it is not required, businesses may keep their records electronically. Under this scenario, DHS assumes that a small number of respondents (i.e., 5 percent) will purchase a computer loaded with basic spreadsheet software. For the purpose of this notice, the Department assumes that 5 percent of covered facilities will purchase a computer and printer to maintain records at a total cost of $1,000. Thus, the annual average cost for physical costs related to electronic-based recordkeeping is $333 per SSP/ASP.

The Department assumes that there will be a larger time commitment for updating records and inputting data into a spreadsheet. Hence, DHS estimates six hours per month to maintain electronic records. Thus, the Department estimates the labor related to electronic-based recordkeeping burden is $3,096 [72 hours × $43 (average hourly wage rate for clerical staff)].

Therefore, for the purposes of this notice, the Department estimates that the annual recordkeeping burden is $1,205,256 [($366 + $2,064) × (0.95 × 486 SSP/ASP respondents) + [($333 + $3,096) × (0.05 × 486 SSP/ASP respondents)]. The rounded estimate is $1,205,300.

Total Annual Burden Cost (Operating/Maintaining)

The total annual burden cost for the SSP/ASP is $9,674,171 [98,475.75 hours multiplied by $86 (average hourly wage rate for Site Security Officers) + $1,205,256 (total annual recordkeeping burden)]. The rounded estimate is $9,675,200.

The Department's Methodology in Estimating the Burden for the Helpdesk

Number of Respondents

The Department evaluated the historical data to determine if the current information collection estimate of 25,000 respondents continued to be an appropriate estimate for Helpdesk. In CY 2009-2011, the Helpdesk accepted 27,135 calls and 10,858 emails.

Table 8—Helpdesk Respondent Totals
| Year 1 | Year 2 | Year 3 | Total | Average annual
Estimated number of Respondents in the IC that expires on 03/31/13 | 25,000 | 25,000 | 25,000 | 75,000 | 25,000
Actual number of Respondents (phone calls and emails) | 14,167 | 15,002 | 8,814 | 37,983 | 12,661

The average annual number of respondents for this time period was 12,661 respondents (calls and emails). Therefore, for the purpose of this notice, the Department has reduced the estimated number of respondents from 25,000 to 15,000, based on actual historical data.

Estimated Time per Respondent

The Department evaluated the historical data to determine if the estimated time per respondent of 0.25 hours (15 minutes) continued to be an appropriate estimate. In CY 2009-2011, the actual average Helpdesk call averaged less than nine minutes.

Table 9—Helpdesk Call Time Averages
| CY 2009 | CY 2010 | CY 2011
Actual Average Call Time (minutes) | 8:18 | 8:47 | 8:29

The Department does not have any information about the average amount of time it took respondents to type and send the 10,858 emails between January 2009 and December 2011.

Therefore, for the purpose of this notice, the Department has reduced the estimated time per respondent from 0.25 hours (i.e., 15 minutes) to 0.17 hours (i.e., 10 minutes).

Annual Burden Hours

The annual burden hours for the Helpdesk will be 2,550 hours [0.17 hours × 15,000 respondents].

Total Burden Cost (Capital/Startup)

Contacting the CFATS Helpdesk is free, and the Department assumes that each respondent already has a phone and/or access to the Internet for basic business needs. Therefore, for the purposes of this notice, the Department estimates that there are no capital/startup costs.

Total Recordkeeping Burden

There is no recordkeeping burden when contacting the CSAT Helpdesk.

Total Annual Burden Cost (Operating/Maintaining)

The total burden for the Helpdesk is $219,300 [2,550 annual burden hours × $86 (average hourly rate for Site Security Officers)].

The Department's Methodology in Estimating the Burden for the User Registration

Number of Respondents

The current information collection estimated 4,167 respondents would complete the user registration process annually. That estimate assumed there would be at least one respondent for each Top-Screen submission. In actuality, between January 2009 and December 2011, 1,866 individuals (i.e. respondents) completed the online User Registration application.² This represents an average annual number of 622 respondents.

² 1,866 respondents created CSAT facility profiles for 2,243 facilities and created 3,274 CSAT user roles. A single user may register more than one user and more than one chemical facility at a time.

Therefore, based upon actual historical data the Department will revise its assumption and assume that the number of respondents for User Registration will be one-fourth of the number of respondents for the Top-Screen. Hence, for the purpose of this notice, the Department estimates that the number of respondents is 625.

Estimated Time per Respondent

In the current information collection, the estimated time per respondent is one hour. Previously, the Department assumed that one hour was an adequate amount of time for the respondent to (1) complete the online CSAT User Registration process, and subsequently (2) collect and submit the necessary signatures on the user access agreement. In CY 2009-2011, the Department was able to measure the duration a user, on behalf of a facility, was logged into the CSAT User Registration application. The Department determined that 98 percent of all individuals completed the online CSAT User Registration application within 52 minutes.

Each CSAT user role for each facility required a user access agreement, and a signature was collected for each user role for each facility (e.g., a single person who will be a submitter for two facilities will sign two agreements twice, or a single person who fulfills more than one role for a facility such as an Authorizer and Submitter will sign one agreement twice). This resulted in 19,810 signatures. The Department estimates that collection and submission for each signature averaged five minutes, resulting in an actual burden to collect signatures of 53 minutes [(19.810 signatures × 5 minutes)/1,866 (Number of Actual Respondents)].

Therefore, based on actual historical data, the Department has adjusted the estimated time per respondent from one hour to two hours.

Annual Burden Hours

The annual burden estimate for User Registration is 1,250 hours [2 hours × 625 respondents].

Total Burden Cost (Capital/Startup)

The Department assumes that each respondent already has a fax capability and access to the Internet for basic business needs. Therefore, for the purposes of this notice, the Department estimates that there no capital/startup costs.

Total Recordkeeping Burden

There is no recordkeeping burden for submitting a User Registration application.

Total Annual Burden Cost (Operating/Maintaining)

The total burden for User Registration is $107,500 [1,250 annual burden hours × $86 (average hourly rate for Site Security Officers)].

The Department's Methodology in Estimating the Burden for the Request for Information To Improve Program

This is a new instrument in this collection. This instrument will allow the Department to request input on an occasional basis about specific documents (e.g., CSAT User Manuals) that will improve the program or its operations.

Number of Respondents

Based on historical data available in CSAT, the Department estimates that the number of respondents will be equal to 25 percent of the number of SSP/ASP. Therefore, the number of respondents is 122 [0.25 × 486 (SSP/ASP respondents)].

Estimated Time per Respondent

The Department estimates that the average time to review and provide comments on a specific document is one hour.

Annual Burden Hours

The annual burden estimate is 122 hours [one hour × 122 respondents × one response per respondent].

Total Burden Cost (Capital/Startup)

The Department assumes that each respondent already has an email capability and access to the Internet for basic business needs. Therefore, for the purposes of this notice, the Department estimates that there are no capital/startup costs.

Total Recordkeeping Burden

There is no recordkeeping burden when responding to a request for information to improve the CFATS program.

Total Annual Burden Cost (Operating/Maintaining)

The total annual burden cost is $10,492 [122 total annual burden hours × $86 (average hourly wage rate for Site Security Officers)]. The rounded estimate is $10,500. OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology (e.g., permitting electronic submissions of responses).

Analysis

Agency: Department of Homeland Security, National Protection and Programs Directorate, Office of Infrastructure Protection, Infrastructure Security Compliance Division.

Title: Chemical Security Assessment Tool.

OMB Number: 1670-0007.

Instrument: CSAT Top-Screen.

Frequency: “On occasion” and “Other”.

Affected Public: Business or other for-profit.

Number of Respondents: 2,500 respondents (estimate).

Estimated Time per Respondent: 6.75 hours.

Total Burden Hours: 25,600 hours.

Total Burden Cost (capital/startup): $0.

Total Recordkeeping Burden: $0.

Total Burden Cost (operating/maintaining): $2,203,700.

Instrument: Security Vulnerability Assessment and Alternative Security Program submitted in lieu of the Security Vulnerability Assessment.

Frequency: “On occasion” and “Other”.

Affected Public: Business or other for-profit.

Number of Respondents: 740 respondents (estimate).

Estimated Time per Respondent: 40 hours.

Total Burden Hours: 43,400 hours.

Total Burden Cost (capital/startup): $0.

Total Recordkeeping Burden: $0.

Total Burden Cost (operating/maintaining): $3,730,900.

Instrument: Site Security Plan and Alternative Security Program submitted in lieu of the Site Security Plan.

Frequency: “On occasion” and “Other”.

Affected Public: Business or other for-profit.

Number of Respondents: 486 respondents (estimate).

Estimated Time per Respondent: 200 hours.

Total Burden Hours: 145,900 hours.

Total Burden Cost (capital/startup): $0.

Total Recordkeeping Burden: $1,205,300.

Total Burden Cost (operating/maintaining): $9,675,200.

Instrument: CFATS Helpdesk.

Frequency: “On occasion” and “Other”.

Affected Public: Business or other for-profit.

Number of Respondents: 15,000 respondents (estimate).

Estimated Time per Respondent: 0.17 hours.

Total Burden Hours: 2,250 annual burden hours.

Total Burden Cost (capital/startup): $0.

Total Recordkeeping Burden: $0.

Total Burden Cost (operating/maintaining): $219,300.

Instrument: CSAT User Registration.

Frequency: “On occasion” and “Other”.

Affected Public: Business or other for-profit.

Number of Respondents: 625 respondents (estimate).

Estimated Time per Respondent: 2 hours.

Total Burden Hours: 1,250 hours.

Total Burden Cost (capital/startup): $0.

Total Recordkeeping Burden: $0.

Total Burden Cost (operating/maintaining): $107,500.

Instrument: Request for Information to Improve Program.

Frequency: “On occasion” and “Other”.

Affected Public: Business or other for-profit.

Number of Respondents: 329 respondents (estimate).

Estimated Time per Respondent: 1 hour.

Total Burden Hours: 122 hours.

Total Burden Cost (capital/startup): $0.

Total Recordkeeping Burden: $0.

Total Burden Cost (operating/maintaining): $10,500.

Dated: December 11, 2012.
Scott Libby,
Acting Chief Information Officer, National Protection and Programs Directorate, Department of Homeland Security.

[FR Doc. 2012-30313 Filed 12-14-12; 8:45 am]

BILLING CODE 9110-9P-P